DEPARTMENT OF TRANSPORTATION

Federal Aviation Administration

14 CFR Part 61

Policy Clarification on Charitable Medical Flights

AGENCY: Federal Aviation Administration (FAA), DOT.

ACTION: Notice of Policy.

SUMMARY: The FAA is issuing this notice of policy to describe its policy for volunteer pilots operating charitable medical flights. Charitable medical flights are flights where a pilot, aircraft owner, and/or operator provides transportation for an individual or organ for medical purposes. This notice of policy is in response to Section 821 of Public Law 112-95, Clarification of Requirements for Volunteer Pilots Operating Charitable Medical Flights.

DATES: This action becomes effective on February 22, 2013.

FOR FURTHER INFORMATION CONTACT: John Linsenmeyer, Federal Aviation Administration, 800 Independence Avenue SW., Washington, DC 20591; fax (202) 385-9612; email john.linsenmeyer@faa.gov.

SUPPLEMENTARY INFORMATION:

Background

Section 61.113(a) of Title 14 Code of Federal Regulations (14 CFR) states that no person who holds a private pilot certificate may act as pilot in command of an aircraft that is carrying passengers or property for compensation or hire; nor may that person, for compensation or hire, act as pilot in command of an aircraft.

Section 61.113(c) states that, for any flight carrying passengers, a private pilot may not pay less than the pro rata share of the operating expenses (fuel oil, airport expenditures, or rental fees). This prohibition means that a private pilot can pay more, but not less, of these expenses when split equally among all the people aboard the aircraft. Private pilot certificates are considered to be an entry-level pilot's license, and the purpose of this regulation is to limit the operations of private pilots commensurate to their certification level. Pilots wishing to pay less than their pro rata share (or fly for hire) must obtain a commercial pilot certificate, which has higher certification requirements and may be required to comply with additional operating requirements.

Some pilots and other individuals have recognized a need to provide transportation services for conveyance of people needing non-emergency medical treatment. Section 821 of Public Law 112-95, requires, with certain limitations, that the FAA allow an aircraft owner or operator to accept reimbursement from a volunteer pilot organization for the fuel costs associated with a flight operation to provide transportation for an individual or organ for medical purposes (and for other associated individuals).

Volunteer pilot organizations have petitioned the FAA for exemption from the requirements of § 61.113(c) so that their pilots can be reimbursed for some or all of the expenses they incur while flying these flights. To allow compensation for expenses for the transportation of individuals, these private pilots are participating in an activity that would otherwise be prohibited by § 61.113(c).

The FAA has determined this activity can be conducted safely with limits applied to the organizations, pilots, and aircraft. Beginning in 2010, the FAA issued several exemptions to charitable medical flight organizations granting relief from the requirements of § 61.113(c). The exemptions contain conditions and limitations that are intended to raise the level of safety for these flights. These conditions and limitations include:

1. Developing of a pilot qualification and training program;

2. Authenticating pilots' FAA certification;

3. Requiring flight release documentation;

4. Imposing minimum pilot qualifications (flight hours, recency of experience, etc.);

5. Requiring a 2nd class FAA medical certificate;

6. Requiring the filing of an instrument flight plan for each flight;

7. Restricting pilots to flight and duty time limitations;

8. Requiring mandatory briefings for passengers;

9. Imposing higher aircraft airworthiness requirements; and

10. Requiring higher instrument flight rules (IFR) minimums.

The FAA recognizes the practical implications and benefits from this type of charity flying and will continue to issue exemptions for flights described by Section 821 of Public Law 112-95. The FAA will continuously update these conditions and limitations as necessary to best ensure these operations meet this equivalent level of safety.

Issued in Washington, DC, on February 14, 2013.
John M. Allen,
Director, Flight Standards Service.

[FR Doc. 2013-04052 Filed 2-21-13; 8:45 am]

BILLING CODE 4910-13-P